DEPARTMENT OF ENERGY

Federal Regulatory Commission

[Docket No. RP00-203-001]

ANR Pipeline Company; Notice of Proposed Change In FERC Gas Tariff

March 9, 2000.

Take notice that, on March 6, 2000, ANR Pipeline Company (ANR) tendered for filing as part of its FERC Gas Tariff, Second Revised Volume No 1, following revised tariff sheet to be effective April 1, 2000:

Fourteenth Revised Sheet No. 19

ANR states that this filing is made to correct an error in pagination in the tariff sheet previously submitted on March 1, 2000 in Docket No. RP00-203-000.

ANR states that copies of the filing have been mailed to all affected customers and state regulatory commissions.

Any person desiring to protest this filing should file a protest with the Federal Energy Regulatory Commission, 888 First Street, N.E., Washington, D.C. 20426, in accordance with Section 385.211 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-6306 Filed 3-14-00; 8:45 am]

BILLING CODE 6717-01-M